DEPARTMENT OF LABOR

Employment and Training Administration

[TA-W-51,455A and TA-W-51,455C]

White Rodgers, Coils Division, A Division of Emerson, Harrison, Arkansas; and White Rodgers, Air Cleaners Division, A Division of Emerson, Harrison, Arkansas; Notice of Negative Determination Regarding Application for Reconsideration

By application of June 19, 2003, a company official requested administrative reconsideration of the Department's negative determination regarding eligibility for workers and former workers of the subject firm to apply for Trade Adjustment Assistance (TAA). The denial notice was signed on June 4, 2003 and published in the Federal Register on April 24, 2003 (68 FR 36847).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at White Rodgers, Coils Division, a division of Emerson, Harrison, Arkansas (TA-W-51,455A) engaged in the production of coils, and on behalf of workers at White Rodgers, Air Cleaner Division, a division of Emerson, Harrison, Arkansas (TA-W-51,455C) were denied because the “contributed importantly” group eligibility requirement of Section 222(3) of the Trade Act of 1974 was not met and production was not shifted abroad.

The company official who filed the reconsideration request stated that, in regard to the Coils Division, production at the subject division was dependent on other divisions being adjacent; once production phases that preceded coil production (injection molding used to wind coils), and followed coil production (gas valves that incorporated the coils) were shifted from the subject division site, it became necessary to move the coil production to another domestic location. As a result, the official contends, the coil production was impacted by a shift of production to Mexico.

Contact with another company official confirmed what had been established in the initial investigation, which was that production at the Coils Division shifted exclusively to a domestic site. It was also revealed that, although competitive production does occur at an affiliate in Mexico, there was no evidence of a shift from the subject facility to the Mexican affiliate or any U.S. imports resulting from this or any other foreign production.

The company official who filed the reconsideration request also stated that, in regard to the Air Cleaner Division, (TA-W-51-455C) production had been shifted to Mexico in June of 2003.

Follow up contact with the company revealed that the majority of production was shifted from the Air Cleaner Division in Harrison, Arkansas to Mexico. However, the shift began outside of the relevant period of this investigation. The petitioners are thus encouraged to file a new petition on behalf of workers at the Air Cleaner Division, thereby creating a relevant period of investigation that would include changing conditions.

Conclusion

After review of the application and investigative findings, I conclude that there has been no error or misinterpretation of the law or of the facts which would justify reconsideration of the Department of Labor's prior decision. Accordingly, the application is denied.

Signed at Washington, DC, this 22nd day of September, 2003.
Linda G. Poole,
Certifying Officer, Division of Trade Adjustment Assistance.

[FR Doc. 03-25713 Filed 10-9-03; 8:45 am]

BILLING CODE 4510-30-P